DEPARTMENT OF COMMERCE

Foreign-Trade Zones Board

[Order No. 1607]

Approval of Manufacturing Authority, Foreign-Trade Zone 76, Bridgeport, CT, Derecktor Shipyards Conn., LLC (Shipbuilding)

Pursuant to its authority under the Foreign-Trade Zones Act of June 18, 1934, as amended (19 U.S.C. 81a-81u) (the Act), the Foreign-Trade Zones Board (the Board) adopts the following Order:

Whereas, the Bridgeport Port Authority, grantee of FTZ 76, has requested authority under Section 400.28 (a)(2) of the Board's regulations on behalf of Derecktor Shipyards Conn., LLC, to construct and repair passenger vessels under FTZ procedures within FTZ 76 Site 4, Bridgeport, Connecticut (FTZ Docket 25-2008, filed 4-23-2008);

Whereas, the proposed shipbuilding and repair activity would be subject to the “standard shipyard restriction” (full customs duties paid on steel mill products);

Whereas, notice inviting public comment has been given in the Federal Register (73 FR 24219, 5-2-2008);

Whereas, the Board adopts the findings and recommendations of the examiner's report, and finds that the requirements of the FTZ Act and the Board's regulations would be satisfied, and that approval of the application would be in the public interest;

Now, therefore, the Board hereby grants authority for the construction and repair of passenger vessels within FTZ 76 for Derecktor Shipyards Conn., LLC, as described in the application and Federal Register notice, subject to the Act and the Board's regulations, including Section 400.28, and the following special conditions:

1. Any foreign steel mill product admitted to FTZ 76 for the DSC activity, including plate, angles, shapes, channels, rolled steel stock, bars, pipes and tubes, not incorporated into merchandise otherwise classified, and which is used in manufacturing, shall be subject to customs duties in accordance with applicable law, unless the Executive Secretary determines that the same item is not then being produced by a domestic steel mill.

2. DSC shall meet its obligation under 15 CFR § 400.28(a)(3) by annually advising the Board's Executive Secretary as to significant new contracts with appropriate information concerning foreign purchases otherwise dutiable, so that the Board may consider whether any foreign dutiable items are being imported for manufacturing in the zone primarily because of FTZ procedures and whether the Board should consider requiring customs duties to be paid on such items.

3. All foreign-origin mooring lines (HTSUS 5607.50) and linens (HTSUS Heading 6302) must be admitted to the zone in privileged foreign status (19 CFR § 146.41) or domestic (duty-paid) status (19 CFR § 146.43).

Signed at Washington, DC, this 26th day of February 2009.

Ronald K. Lorentzen,
Acting Assistant Secretary of Commerce for Import Administration, Alternate Chairman, Foreign-Trade Zones Board.
Attest:
Andrew McGilvray,
Executive Secretary.

[FR Doc. E9-5100 Filed 3-9-09; 8:45 am]

BILLING CODE 3510-DS-S